DEPARTMENT OF ENERGY

Federal Energy Regulatory Commission

Combined Notice of Filings #2

Take notice that the Commission received the following electric rate filings:

Docket Numbers: ER10-2238-004; ER10-2239-004; ER10-2237-003; ER10-1821-005; ER11-4475-005.

Applicants: Indigo Generation LLC, Larkspur Energy LLC, Wildflower Energy LP, Goshen Phase II LLC, Rockland Wind Farm LLC.

Description: Notice of Non-Material Change in Status of the DGC Companies.

Filed Date: 3/14/13.

Accession Number: 20130314-5184.

Comments Due: 5 p.m. ET 4/4/13.

Docket Numbers: ER13-633-001.

Applicants: Public Service Company of Colorado.

Description: Public Service Company of Colorado submits 2013-03-15-NSP-BARRON-Tran-to Load-543 to be effective 1/1/2013.

Filed Date: 3/15/13.

Accession Number: 20130315-5070.

Comments Due: 5 p.m. ET 4/5/13.

Docket Numbers: ER13-656-001.

Applicants: Public Service Company of Colorado.

Description: 2013-03-14-NSP-TREMPLO-Tran-to Load-549 to be effective 1/1/2013.

Filed Date: 3/15/13.

Accession Number: 20130315-5003.

Comments Due: 5 p.m. ET 4/5/13.

Docket Numbers: ER13-672-001.

Applicants: Public Service Company of Colorado.

Description: Public Service Company of Colorado submits 2013-03-15-NSP-RCLK-Tran-to Load-547 to be effective 1/1/2013.

Filed Date: 3/15/13.

Accession Number: 20130315-5048.

Comments Due: 5 p.m. ET 4/5/13.

Docket Numbers: ER13-791-001.

Applicants: Midwest Independent Transmission System Operator, Inc.

Description: Midwest Independent Transmission System Operator, Inc. submits 03-15-2013 SA 2478 METC-Traverse IFA to be effective 3/24/2013.

Filed Date: 3/15/13.

Accession Number: 20130315-5074.

Comments Due: 5 p.m. ET 4/5/13.

Docket Numbers: ER13-1101-000.

Applicants: Spectrum Nevada Solar, LLC.

Description: Application and Initial Baseline Tariff Filing to be effective 4/24/2013.

Filed Date: 3/15/13.

Accession Number: 20130315-5000.

Comments Due: 5 p.m. ET 4/5/13.

Docket Numbers: ER13-1102-000.

Applicants: Southern California Edison Company.

Description: GIA and Distribution Service Agreement CA PV Energy, LLC at 1670 Champagne Ave to be effective 3/16/2013.

Filed Date: 3/15/13.

Accession Number: 20130315-5001.

Comments Due: 5 p.m. ET 4/5/13.

Docket Numbers: ER13-1103-000.

Applicants: Southern California Edison Company.

Description: GIA and Distribution Service Agreement CA PV Energy, LLC at 2825 Jurupa Ave to be effective 3/16/2013.

Filed Date: 3/15/13.

Accession Number: 20130315-5002.

Comments Due: 5 p.m. ET 4/5/13.

Docket Numbers: ER13-1104-000.

Applicants: Just Energy Illinois Corp.

Description: Just Energy Illinois Corp. submits Market-Based Rates application to be effective 5/14/2013.

Filed Date: 3/15/13.

Accession Number: 20130315-5047.

Comments Due: 5 p.m. ET 4/5/13.

Docket Numbers: ER13-1105-000.

Applicants: Florida Power Corporation, Duke Energy Carolinas, LLC.

Description: Florida Power Corporation submits Joint OATT Florida CWIP Filing to be effective 5/15/2013.

Filed Date: 3/15/13.

Accession Number: 20130315-5056.

Comments Due: 5 p.m. ET 4/5/13.

Docket Numbers: ER13-1106-000.

Applicants: Wisconsin Public Service Corporation.

Description: Wisconsin Public Service Corporation submits WPSC Annual PEB/PBOP Filing to be effective 4/1/2013 under ER13-1106 Filing Type: 10.

Filed Date: 3/15/13.

Accession Number: 20130315-5076.

Comments Due: 5 p.m. ET 4/5/13.

Docket Numbers: ER13-1107-000.

Applicants: FM Energy Scheduling, LLC.

Description: FM Energy Scheduling, LLC submits FMES MBRA Application to be effective 6/1/2013.

Filed Date: 3/15/13.

Accession Number: 20130315-5079.

Comments Due: 5 p.m. ET 4/5/13.

Docket Numbers: ER13-1108-000.

Applicants: PJM Interconnection, L.L.C.

Description: PJM Interconnection, L.L.C. submits Original Service Agreement No. 3515 Queues V4-006, V4-007, V4-030, V4-031 to be effective 2/13/2013.

Filed Date: 3/15/13.

Accession Number: 20130315-5080.

Comments Due: 5 p.m. ET 4/5/13.

Docket Numbers: ER13-1109-000.

Applicants: Midwest Independent Transmission System Operator, Inc.

Description: Midwest Independent Transmission System Operator, Inc. submits 03-15-2013 to be effective 5/14/2013.

Filed Date: 3/15/13.

Accession Number: 20130315-5089.

Comments Due: 5 p.m. ET 4/5/13.

Take notice that the Commission received the following electric securities filings:

Docket Numbers: ES13-18-000.

Applicants: Midwest Independent Transmission System Operator, Inc.

Description: Section 204 Application of Midwest Independent Transmission System Operator, Inc.

Filed Date: 3/14/13.

Accession Number: 20130314-5187.

Comments Due: 5 p.m. ET 4/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2013.
Nathaniel J. Davis, Sr.,
Deputy Secretary.

[FR Doc. 2013-06600 Filed 3-21-13; 8:45 am]

BILLING CODE 6717-01-P